DEPARTMENT OF TRANSPORTATION

Federal Aviation Administration

14 CFR Part 71

[Docket No. FAA-2014-0743; Airspace Docket No. 14-ASW-2]

Establishment of Class E Airspace; Cypress, TX

AGENCY: Federal Aviation Administration (FAA), DOT.

ACTION: Final rule; correction.

SUMMARY: This action corrects the effective date of a final rule published in the Federal Register of April 24, 2015, establishing Class E airspace at Dry Creek Airport, Cypress, TX.

DATES: Effective date: 0901 UTC, The effective date for the final rule published on April 24, 2015, is corrected from April 30, 2015, to June 25, 2015.

FOR FURTHER INFORMATION CONTACT: Rebecca Shelby, Central Service Center, Operations Support Group, Federal Aviation Administration, Southwest Region, 2601 Meacham Blvd., Fort Worth, TX 76137; telephone 817-321-7740.

SUPPLEMENTARY INFORMATION:

History

The FAA published in the Federal Register a final rule establishing Class E airspace extending upward from 700 feet above the surface at Dry Creek Airport, Cypress, TX (79 FR 22894, April 24, 2015). After publication FAA found the effective date was incorrectly published as April 30, 2015, which does not ensure enough time for publication in the FAA's aeronautical database. The correct effective date is June 25, 2015. This action corrects the error.

Correction to Final Rule

Accordingly, pursuant to the authority delegated to me, the effective date listed under DATES heading on Docket No. FAA 2015-0743, establishing Class E airspace at Dry Creek Airport, Cypress, TX, as published in the Federal Register of April 24, 2015, (79 FR 22894), FR Doc. 2015-09400, is corrected as follows:

On page 22894, column, 2, line 38, remove “April 30, 2015”, and add in its place “June 25, 2015”.

Issued in Washington, DC, on May 4, 2015.
Mark W. Bury,
Assistant Chief Counsel Regulations Division.

[FR Doc. 2015-11455 Filed 5-13-15; 8:45 am]

BILLING CODE 4910-13-P